ENVIRONMENTAL PROTECTION AGENCY

40 CFR Parts 52 and 81

[EPA-R10-OAR-2020-0190; FRL-10023-66-Region 10]

Air Plan Approval; ID: Logan Utah-Idaho PM2.5 Redesignation to Attainment and Maintenance Plan

AGENCY: Environmental Protection Agency (EPA).

ACTION: Final rule.

SUMMARY: The Environmental Protection Agency (EPA) is redesignating the Idaho portion of the Logan, Utah-Idaho fine particulate matter (PM2.5) nonattainment area (Logan UT-ID NAA) to attainment for the 2006 PM2.5 National Ambient Air Quality Standard (NAAQS). EPA is also approving a maintenance plan for the area demonstrating continued compliance with the 2006 PM2.5 NAAQS through 2031, which the Idaho Department of Environmental Quality (IDEQ) submitted along with the redesignation request on September 13, 2019, for inclusion in the Idaho State Implementation Plan (SIP). Additionally, EPA is approving the 2031 motor vehicle emissions budgets included in Idaho's maintenance plan for PM2.5, nitrogen oxides (NOX) and volatile organic compounds (VOC). EPA is taking this final action pursuant to the Clean Air Act (CAA or the Act).

DATES: This rule is effective on June 21, 2021.

ADDRESSES: EPA has established a docket for this action under Docket ID No. EPA-R10-OAR-2020-0190. All documents in the docket are listed on the https://www.regulations.gov website. Although listed in the index, some information is not publicly available, e.g., CBI or other information whose disclosure is restricted by statute. Certain other material, such as copyrighted material, is not placed on the internet and will be publicly available only in hard copy form. Publicly available docket materials are available through https://www.regulations.gov, or please contact the person identified in the FOR FURTHER INFORMATION CONTACT section for additional availability information.

FOR FURTHER INFORMATION CONTACT: Adam Clark, (206) 553-1495, clark.adam@epa.gov, EPA Region 10, 1200 6th Avenue, Suite 155, Seattle, Washington, 98101.

SUPPLEMENTARY INFORMATION: Throughout this document whenever “we,” “us,” or “our” is used, it is intended to refer to EPA.

I. Background

On October 17, 2006, EPA revised the level of the 24-hour PM2.5 NAAQS, lowering the primary and secondary standards from the 1997 standard of 65 micrograms per cubic meter (µg/m³) to 35 µg/m³ (71 FR 61144). On November 13, 2009, EPA designated a portion of Franklin County, Idaho and portions of Cache County, Utah nonattainment for the 2006 24-hour PM2.5 NAAQS (74 FR 58688). This cross-boundary nonattainment area is referred to as the Logan, UT-ID PM2.5 NAA. On September 13, 2019, IDEQ submitted to EPA a request to redesignate the Idaho portion of the Logan UT-ID PM2.5 NAA to attainment, per CAA section 107(d)(3)(E). IDEQ also submitted a CAA section 175A maintenance plan to demonstrate continued attainment of the 2006 PM2.5 NAAQS in the area for at least 10 years after approval of the redesignation. On February 17, 2021, EPA proposed to redesignate the Franklin County, ID portion of the Logan UT-ID PM2.5 NAA to attainment and approve into the Idaho SIP the associated maintenance plan (86 FR 9884). As described in detail in that action, EPA's proposed approval of the redesignation request and maintenance plan is based upon our determination that the area attains the 2006 24-hour PM2.5 NAAQS and that all other CAA section 107(d)(3)(E) redesignation criteria have been met for the area.

II. Response to Comments

EPA received comments from three individuals during the 30-day comment period following publication of the proposed approval in the Federal Register. A summary of these comments and EPA's responses is provided below.

Comment 1: Two of the commenters expressed concern about the current air quality in the Logan, UT-ID PM2.5 NAA, commonly referred to as the Cache Valley. One of these commenters stated that attainment had only been achieved “on paper,” but that air quality in the Cache Valley remained poor. This commenter suggested different local causes of poor air quality, including an increase in the number of diesel pickup trucks and snowmobiles in the area, the burning of agricultural fields and ditches, the burning of slashed trees by the U.S. Forest Service, and non-adherence to idling restrictions. Both commenters asserted that the poor air quality in the area caused negative health impacts for them (including the need to purchase indoor air purifiers), and often prevented them from recreating outdoors.

Response 1: The comments speak generally about air quality in the area, but do not provide any specific information to contradict EPA's proposed finding that the Logan UT-ID area meets the criteria for redesignation under CAA Section 107(d)(3)(E) for the 2006 PM2.5 NAAQS. As discussed in detail in the proposal, EPA's review of air monitoring data in the Logan UT-ID PM2.5 NAA demonstrates that the area has attained the 2006 24-hour PM2.5 NAAQS continuously since the 2015-2017 design value period which was the basis for our October 19, 2018 determination of attainment by the attainment date and clean data determination (86 FR 9886). These comments do not provide a basis to reconsider EPA's determination that the area meets the criteria under CAA Section 107(d)(3)(E) or to otherwise disapprove IDEQ's redesignation request or associated maintenance plan for the Idaho portion of the Logan UT-ID NAA.

Comment 2: Two of the commenters provided suggestions to improve air quality in the Cache Valley. One commenter stated that the Cache Valley needs access to Tier 3 gasoline and more electric vehicle (EV) charging stations. Another commenter asserted that the state “thwarts efforts to induce private citizens to own appropriate vehicles that can reduce air pollution by proposing to increasing personal property taxes from 200-400%+ on hybrid, plug-in EV, and EV vehicles.” This commenter also stated that the county had failed to enforce idling restrictions, and recommended that the county increase education about the consequences of non-adherence to idling restrictions “by private citizens, as well as corporate and government entities.”

Response 2: While the EPA ultimately approves or disapproves a state plan as meeting or not meeting the criteria of the CAA, Congress gave states the lead in developing a plan to implement, maintain, and enforce the NAAQS. Once a NAAQS is established, each state is required to develop a plan for how the state will control air pollution within its jurisdiction, which is called a SIP. SIPs must include, among other things, emission limitations and other control measures, means, or techniques, as well as schedules, and timetables for compliance, as may be necessary or appropriate to meet applicable CAA requirements, including timely attainment and subsequent maintenance of the NAAQS. CAA section 110(a)(2); see also Train v. NRDC, 421 US 60, 67 (1975). “[S]o long as the ultimate effect of a State's choice of emission limitations is compliance with the [NAAQS],” the State generally may adopt its preferred mix of controls deemed best suited to its particular situation. See Train, 421 US at 79. As discussed in the proposal, EPA has determined that the improvement in air quality in the Logan UT-ID NAA is reasonably attributable to permanent and enforceable reductions in emissions resulting from implementation of the applicable implementation plan, implementation of applicable Federal air pollutant control regulations, and other permanent and enforceable reductions (86 FR 9888). The comment does not provide a basis for EPA to reconsider this or any other portion of our proposed action.

III. Final Action

EPA is finalizing the redesignation of the Idaho portion of the Logan UT-ID 2006 PM2.5 NAA to attainment. EPA is also approving the associated maintenance plan ensuring continued attainment of the 2006 24-hour PM2.5 NAAQS in the area for the next 10 years. For transportation conformity purposes, EPA is approving the 2031 motor vehicle emissions budgets included in Idaho's maintenance plan for PM2.5, NOX and VOC. The designation status of the Idaho portion of the Logan, UT-ID PM2.5 NAA under 40 CFR part 81 will be revised to attainment upon the effective date of this final action.

IV. Statutory and Executive Order Reviews

Under the CAA, redesignation of an area to attainment and the accompanying approval of a maintenance plan and associated motor vehicle emissions budgets under section 107(d)(3)(E) are actions that affect the status of a geographical area and do not impose any additional regulatory requirements on sources beyond those imposed by state law. A redesignation to attainment does not in and of itself create any new requirements, but rather results in the applicability of requirements contained in the CAA for areas that have been redesignated to attainment. Moreover, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those already imposed by state law. For that reason, this action:

• Is not a “significant regulatory action” subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications and it will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by July 20, 2021. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2)).

List of Subjects

40 CFR Part 52

Environmental protection, Air pollution control, Carbon monoxide, Environmental protection, Incorporation by reference, Intergovernmental relations, Lead, Nitrogen dioxide, Ozone, Particulate matter, Reporting and recordkeeping requirements, Sulfur oxides, Volatile organic compounds.

40 CFR Part 81

Environmental protection, Air pollution control, National parks, Wilderness areas.

Dated: May 14, 2021.
Michelle L. Pirzadeh,
Acting Regional Administrator, Region 10.

For the reasons set forth in the preamble, 40 CFR parts 52 and 81 are amended as follows:

PART 52—APPROVAL AND PROMULGATION OF IMPLEMENTATION PLANS

1. The authority citation for part 52 continues to read as follows:

Authority: 42 U.S.C. 7401 et seq.

Subpart N—Idaho

2. In § 52.670, the table in paragraph (e) is amended by adding an entry at the end of the table for “Cache Valley Fine Particulate Matter Maintenance Plan” to read as follows:

§ 52.670 Identification of plan.

* * * * *

(e) * * *

EPA-Approved Idaho Nonregulatory Provisions and Quasi-Regulatory Measures
Name of SIP provision | Applicable geographic or nonattainment area | State submittal date | EPA approval date | Comments
* * * * * * *
Cache Valley Fine Particulate Matter Maintenance Plan | Franklin County, Logan UT-ID PM2.5 Area | 9/13/2019 | 5/21/2021, [Insert Federal Register citation] |

PART 81—DESIGNATION OF AREAS FOR AIR QUALITY PLANNING PURPOSES

3. The authority citation for part 81 continues to read as follows:

Authority: 42 U.S.C. 7401 et seq.

4. In § 81.313 amend in the table entitled “Idaho—2006 24-Hour PM2.5 NAAQS” by revising the entry for “Franklin County (part)” to read as follows:

§ 81.313 Idaho.

* * * * *

Idaho—2006 24-Hour PM2.5 NAAQS
[Primary and Secondary]
Designated area | Designation ᵃ: Date ¹ | Designation ᵃ: Type | Classification: Date ² | Classification: Type
Logan, UT-ID:
Franklin County (part) | 5/21/2021 | Attainment
Begin in the bottom left corner (southwest) of the nonattainment area boundary, southwest corner of the PLSS-Boise Meridian, Township 16 South, Range 37 East, Section 25. The boundary then proceeds north to the northwest corner of Township 15 South, Range 37 East, Section 25; then the boundary proceeds east to the southeast corner of Township 15 South, Range 38 East, Section 19; then north to the Franklin County boundary at the northwest corner of Township 13 South, Range 38 East, Section 20. From this point the boundary proceeds east 3.5 sections along the northern border of the county boundary where it then turns south 2 sections, and then proceeds east 5 more sections, and then north 2 sections more. At this point, the boundary leaves the county boundary and proceeds east at the southeast corner of Township 13 South, Range 39 East, Section 14; then the boundary heads north 2 sections to northwest corner of Township 13 South, Range 39 east, Section 12; then the boundary proceeds east 2 sections to the northeast corner of Township 13 South, Range 40 East, Section 7. The boundary then proceeds south 2 sections to the northwest corner of Township 13 South, Range 40 East, Section 20; the boundary then proceeds east 6 sections to the northeast corner of Township 13 South, Range 41 East, Section 19. The boundary then proceeds south 20 sections to the southeast corner of Township 16 South, Range 41 East, Section 30. Finally, the boundary is completed as it proceeds west 20 sections along the southern Idaho state boundary to the southwest corner of the Township 16 South, Range 37 East, Section 25
* * * * * * *
ᵃ Includes Indian Country located in each county or area, except as otherwise specified.
¹ This date is 30 days after November 13, 2009, unless otherwise noted.
² This date is July 2, 2014, unless otherwise noted.

* * * * *

[FR Doc. 2021-10633 Filed 5-20-21; 8:45 am]

BILLING CODE 6560-50-P